DEPARTMENT OF COMMERCE

National Oceanic and Atmospheric Administration

[I.D. 081503D]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene public meetings.

DATES: The meetings will be held on Monday, September 8, 2003 through Thursday September 11, 2003.

ADDRESSES: These meetings will be held at the Baton Rouge Marriott, 5500 Hilton Avenue, Baton Rouge, LA; telephone: 225-924-5000.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

September 10

8:30 a.m.—Convene.

8:45 a.m.—Receive an address by RADM Robert Duncan.

9 a.m.-11 a.m.—Receive four presentations of Marine Fisheries Initiative (MARFIN) reports on stock structure of Gulf red snapper. These reports suggest there are separate subpopulations of red snapper east and west of the Mississippi River.

11 a.m.-11:30 a.m.—Receive the Habitat Protection Committee report.

1:30 p.m.-3:30 p.m.—Receive the Reef Fish Management Committee report.

3:30 p.m.-4 p.m.—Receive the Mackerel Management Committee report.

4 p.m.-4:30 p.m.—Receive the Shrimp Management Committee report.

4:30 p.m.-5 p.m.—(Closed Session) Receive the report of the Advisory Panel (AP) Selection Committee.

September 11

8:30 a.m.-9 a.m.—Receive the Migratory Species Committee report.

9 a.m.-9:15 a.m.—Receive a report of the Logo Selection Committee.

9:15 a.m.-9:30 a.m.—Receive a report of the Budget Committee.

9:30 a.m.-10 a.m.—Receive Enforcement Reports.

10 a.m.-10:15 a.m.—Receive the NMFS Regional Administrator's Report.

10:15 a.m.-10:45 a.m.—Receive Director's Reports.

10:45 a.m.-11 a.m.—Other Business

11 a.m.-11:15 a.m.—Election of Chairman and Vice Chairman.

Committees

September 8

9 a.m.-10 a.m.—Orientation session for New Members.

10 a.m.-11:30 a.m.—(Closed Session) - Convene the AP Selection Committee to review NMFS enforcement records.

1 p.m.-4:30 p.m.—Convene the Reef Fish Management Committee to review the Vermilion Snapper Regulatory Amendment Options Paper that includes alternatives for arresting overfishing that is believed to be occurring on that stock. The committee will review public comments on this issue from scoping hearings held in August 2003. The committee will consider implementing a new stock assessment procedure (SEDAR - Southeast Data and Review) under which groups of panels review the data, develop the assessment, and develop a peer-reviewed assessment. The committee will consider alternatives that should be included in the Reef Fish 18 options paper for management of the grouper stocks. The committee will also discuss which of the Council's advisory panels to utilize in the development of a red snapper individual fishing quota (IFQ) system. The committee will also consider submitting an emergency action request to NMFS to assure that there is no lapse between the June 16, 2004 expiration of the current regulations establishing the Madison-Swanson and Steamboat Lumps marine reserves, and implementation of the new regulations under Amendment 21.

4:30 p.m.-5:30 p.m.—Convene the Budget Committee to discuss the CY2004 budget.

September 9

8:30 a.m.-10:30 a.m.—Convene the Mackerel Management Committee to review potential alternatives and issues to be included in a scoping document for Amendment 15 to the Coastal Migratory Pelagics Fishery Management Plan (FMP).

10:30 a.m.-12:30 p.m.—Convene the Shrimp Management Committee to review Draft Shrimp Amendment 13/Environmental Assessment (EA) Options Paper that includes alternatives for status criteria and benchmarks as well as a revised standardized bycatch reporting methodology; and a Draft Options Paper for Shrimp Amendment 14/Supplementary Invironmental Impact Statement (SEIS) that includes alternatives to improve the bycatch reporting methodology, further reduce bycatch, and achieve optimum yield.

2 p.m.-4:30 p.m.—Convene the Migratory Species Management Committee to discuss shark bycatch in the menhaden purse seine fishery, Highly Migratory Species (HMS) Advisory Panel recommendations on Amendment 1 to the HMS FMP, scoping issues for HMS Amendment 2 and Billfish Amendment2, and the International Commission for the Conservation of Atlantic Tunas Draft recommendations on Integrated Migratory and Control Measures.

4:30 p.m.-5:30 p.m.—Convene the Habitat Protection Committee to discuss the Florida Offshore Aquaculture Inc. Permit, and a dredge material disposal application in Mississippi.

Although non-emergency issues not contained in the agenda may come before the Council for discussion, in accordance with the Magnuson-Stevens Fishery Conservation and Management Act (Magnuson Act), those issues may not be the subject of formal Council action during this meeting. Council action will be restricted to those issues specifically identified in this notice and any issues arising after publication of this notice that require emergency action under section 305 (c) of the Magnuson Act, provided the public has been notified of the Council's intent to take final action to address the emergency. A copy of the Committee schedule and agenda can be obtained by calling (813) 228-2815.

Special Accommodations

These meetings are physically accessible to people with disabilities. Requests for sign language interpretation or other auxiliary aids should be directed to Anne Alford at the Council (see ADDRESSES) by August 29, 2003.

Dated: August 15, 2003.
Richard W. Surdi,
Acting Director, Office of Sustainable Fisheries, National Marine Fisheries Service.

[FR Doc. 03-21454 Filed 8-20-03; 8:45 am]

BILLING CODE 3510-22-S